DEPARTMENT OF ENERGY

DOE Response to Recommendation 2019-2 of the Defense Nuclear Facilities Safety Board, Safety of the Savannah River Site Tritium Facilities

AGENCY: Office of Environment, Health, Safety and Security, Department of Energy.

ACTION: Notice.

SUMMARY: On June 11, 2019, the Defense Nuclear Facilities Safety Board issued Recommendation 2019-2, Safety of the Savannah River Site Tritium Facilities, to the Department of Energy. In accordance with the Atomic Energy Act of 1954, the Secretary of Energy's response to the Recommendation is provided in this notice.

DATES: Comments, data, views, or arguments concerning the Secretary's response are due on or before November 1, 2019.

ADDRESSES: Please send to: Defense Nuclear Facilities Safety Board, 625 Indiana Avenue NW, Suite 700, Washington, DC 20004.

FOR FURTHER INFORMATION CONTACT: Mr. Christopher Chaves, Office of the Departmental Representative to the Defense Nuclear Facilities Safety Board, Office of Environment, Health, Safety and Security, U.S. Department of Energy, 1000 Independence Avenue SW, Washington, DC 20585, or telephone number (301) 903-5999, or email Christopher.Chaves@hq.doe.gov.

SUPPLEMENTARY INFORMATION: On June 11, 2019, the Defense Nuclear Facilities Safety Board issued Recommendation 2019-2, Safety of the Savannah River Site Tritium Facilities, to the Department of Energy. Recommendation 2019-2 was published in the Federal Register on June 19, 2019 (84 FR 28517). In accordance with section 315(c) of the Atomic Energy Act of 1954 (42 U.S.C. 2286d(c)), the Secretary of Energy's response to the Recommendation is printed in full at the conclusion of this notice.

Signed in Washington, DC on September 24, 2019.

Joe Olencz,
Departmental Representative to the Defense Nuclear Facilities Safety Board, Office of Environment, Health, Safety and Security.

September 10, 2019

The Honorable Bruce Hamilton

Defense Nuclear Facilities Safety Board

625 Indiana Avenue NW, Suite 700

Washington, DC 20004

Dear Mr. Chairman:

I appreciate the Defense Nuclear Facilities Safety Board's (DNFSB) continued support to the Department of Energy's National Nuclear Security Administration (DOE/NNSA) in the safe operation of our facilities. I am committed to ensuring DOE/NNSA continues to remain fully compliant in the safe operations of our defense nuclear facilities in a manner that provides adequate protection to the public, our workforce, and the environment. Secretary Perry has requested that I respond to DNFSB Recommendation 2019-2, Safety of the Savannah River Site Tritium Facilities, dated June 11, 2019. In responding, I first want to assure you that DOE/NNSA remains fully compliant and committed in our duties to the American public in the safe operation of these facilities as outlined in the enclosure to this letter. These actions address the concerns of the DNFSB and reflect how DOE/NNSA is providing adequate protection of the public's health and safety at the Tritium Facilities at the Savannah River Site (SRS). Therefore, I do not accept Recommendation 2019-2.

DOE/NNSA's safety programs and policies, and their effective implementation by our well-trained workforce, provide reasonable assurance that adequate protection of public health and safety is provided. Focused ongoing actions at the Tritium Facilities at SRS adequately address DNFSB concerns outlined in Recommendation 2019-2 and make the need for additional actions in response to a DNFSB Recommendation unnecessarily duplicative of that effort, and would, therefore, detract from our continued progress. Our commitment to safety in the Tritium Facilities remains un-wavering, and there has been no change in the conservative safety philosophy in the operation of the Tritium Facilities.

The Department believes that the current Tritium Facilities' documented safety analysis contains appropriate safety significant controls and the new analysis, which is nearing completion, will strengthen that safety posture. The planned Tritium Finishing Facility (TFF), included in the President's FY 2020 Budget Request, will fundamentally improve safety at SRS, as DOE/NNSA moves from the aging H-Area Old Manufacturing Facility to this new seismically-qualified facility. Furthermore, the SRS Emergency Management Program has demonstrated steady and significant improvement over the past several years and continues to provide adequate protection to the workforce and the public surrounding SRS. A comprehensive explanation of our safety improvement activities is detailed in the enclosure.

DOE/NNSA would be willing to brief DNFSB on our actions outlined in the enclosure and keep the Board updated over time. We appreciate the Board's perspectives and look forward to the continued positive interactions with you and your staff.

If you have any questions, please contact Ms. Nicole Nelson-Jean, Manager of the Savannah River Field Office, at (803) 208-3689.

Sincerely,

Lisa E. Gordon-Hagerty

Enclosure

Enclosure

Department of Energy (DOE) Secretary Response to the June 11, 2019, DNFSB Recommendation 2019-2, Safety of the Savannah River Site Tritium Facilities

Sub-recommendation 1—Identify and implement near-term compensatory measures at SRS to mitigate the potential for high radiological consequences to individuals who would be impacted by a release from the Tritium Facilities.

Procedural reductions in the Material At Risk (MAR) have been completed in the Tritium Facilities. Each operating facility that makes up the Tritium Facilities has an associated MAR listed in the Documented Safety Analysis (DSA). When it was understood that the new analysis would increase the dose consequences, Savannah River Nuclear Solutions (SRNS) reduced tritium quantities in such facility through the Automated Reservoir Management System. These reductions are reflected in the DSA currently advancing through the approval process by the Department's approval process.

Over the past several years, the Department of Energy's National Nuclear Security Administration (DOE/NNSA) and the Savannah River Site (SRS) Management and Operating partner, SRNS, have taken actions to continue improving the Tritium Facilities safety posture. A new hazards analysis has been conducted along with a revision to the DSA. This new analysis has further emphasized identifying engineered controls over administrative controls. The Board's technical staff was recently provided a draft of the new DSA. The Department notes that even with the extreme conservatism in the analytical parameters, including a postulated simultaneous release of all tritium, from all the multiple facilities within 20 minutes; the postulated consequences to the public remain below the Evaluation Guideline of DOE-STD-3009-94, Preparation Guide for U.S. Department of Energy Nonreactor Nuclear Facility Documented Safety Analyses.

In addition, hypothetical, worst-case modeling does not account for any Emergency Response exposure reduction actions, personnel self-protection actions, nor any subsequent response actions to mitigate the potential consequences. Based on the current DSA, and the new DSA in review, reasonable assurance of adequate protection is ensured and the risk to the public remains very low. It is anticipated that the new DSA will be approved in 2019. The actions taken in completing the DSA aligns with addressing the concerns raised in Recommendation 2019-2.

DOE/NNSA actions and plans that would have responded to this Sub-recommendation are complete or underway and therefore are considered to have met the objectives of this Sub-recommendation. DOE/NNSA is willing to brief the DNFSB on these actions on a recurring basis.

Sub-recommendation 2—Identify and implement long-term actions and controls to prevent or mitigate the hazards and pose significant radiological consequences to acceptably low values consistent with the requirements of DOE directives.

As noted in the Recommendation, DOE/NNSA committed in 2011 to develop a new analytical model for dose consequences for SRS. In 2011, DOE/NNSA outlined a plan to update the atmospheric dispersion model, which was completed in 2014. Implementation of that new analysis began shortly thereafter and included a review of the safety controls selection and hierarchy. DOE/NNSA decided to combine all the Tritium Facilities' safety bases and to conduct a holistic revision to the DSA. The new analysis placed additional emphasis on engineered controls over administrative controls. After an extensive review, DOE/NNSA directed changes and updates to the draft DSA, including development of a formal strategy that will continue to strengthen the controls to protect co-located workers (CWs) from large energetic events postulated by the safety analysis. The revised DSA was delivered to DOE/NNSA in November 2018. Subject matter experts from across DOE/NNSA have completed a review of the resubmitted DSA and have generated a number of additional items requiring further action. The actions taken in completing the DSA aligns with addressing the concerns raised in Recommendation 2019-2.

The new DSA includes a number of new credited features, including the 217-H Vault walls and fire damper, new Specific Administrative Controls (SACs) for fire water tank, and other new Fire Suppression Surveillances have been added. In addition, all current Programmatic Controls have been replaced by at least one SAC.

In 2018, recognizing the desire to reduce worker consequences, DOE/NNSA requested and received from SRNS a strategy for risk reduction to CWs (U-ESR-H-00163, Rev.0). This strategy describes the SRNS plans for additional structural analyses and control development, if required for the remaining facilities during a potential seismic event. This analysis will be used to determine suitability for upgrading the functional classification of additional controls. It also includes analysis for dose reduction (e.g. tritium oxidation conversion rates, plume rise phenomena, etc.). In the aggregate, the plan includes 19 commitments that are being pursued and managed (SRNS-T0000-2018-00227, Transmittal of the Schedule for Implementing the Strategy for Risk Reduction to the Co-Located Worker in Tritium Facilities).

Longer term plans include the construction of the Tritium Finishing Facility (TFF) capital line item project, to replace the aging HAOM 234-H facility with a seismically-qualified facility with a dedicated fire suppression system. The TFF project will mitigate potential risks to DOE/NNSA's Stockpile Stewardship Program stemming from housing operations in outdated facilities.

A formal Analysis of Alternatives (AoA) was performed and documented for the TFF project. The results of the AoA recommended the construction of new buildings instead of upgrading existing buildings that involve tritium operations. This will promulgate safety in design integration and the new TFF facilities will meet current DOE requirements. It is anticipated the TFF project will meet the Critical Decision-1 project milestone in early FY 2020. The current confinement strategy for TFF is based on the use of multiple physical barriers and active controls to include:

• Robust containers storing the MAR.

• Robust Natural Phenomena Hazard Design Category-3 (NDC-3) structures preventing building collapse and impacts to containers.

• Robust NDC-3 fire suppression systems preventing the spread of a fire and mitigating the consequences of a release.

• Exhaust Ventilation with elevated release to mitigate consequences to the CWs. Based on application of passive barriers and active controls, the mitigated consequence to both the public and CW from a release of radiological materials is either prevented or maintained at levels well below the Evaluation Guidelines.

As described above, DOE/NNSA is committed to improving the safety posture of the Tritium Facilities. The actions already taken and those in progress meet the requirements of our Directives. No additional actions are required at this time.

DOE/NNSA actions and plans that would have responded to this Sub-recommendation are complete or underway and therefore are considered to have met the issues highlighted and meet the intent of the recommendation. DOE/NNSA would be willing to brief the DNFSB on these actions on a recurring basis.

Sub-recommendation 3—Evaluate the adequacy of the following safety management programs and upgrade them as necessary to ensure that SRS can effectively respond to energetic accidents at the Tritium Facilities, and that it can quickly identify and properly treat potential victims.

Sub-Recommendation #3 discusses the Site's capability to respond to a Tritium event. The SRS and Tritium Facilities Emergency Management programs have made significant improvements over the past several years. The Emergency Preparedness (EP) program meets DOE Directives and is adequate to continue protecting the SRS workers and the surrounding public. We have recently evaluated the SRS safety management programs and found them to be adequate.

The current Emergency Management program provides the appropriate training required for individuals to respond to alarms, abnormal operations, and emergencies across SRS. The Tritium Facilities EP program maintains a fully qualified team which performs approximately 50 drills per year to train and validate the organizations ability to respond to various scenarios, from weather induced incidents to large energetic events. SRS EP support organizations, like the SRS Fire Department (FD), are trained and routinely evaluated to ensure that they can properly respond to an event in any facility across the site. For example, during the 2018 Site Exercise, the SRS emergency response team responded to a hypothetical complex multi-facility and multi-contractor event that included H-Area, Tritium, and H-Tank Farm. Site level evaluated exercise responses routinely involve multiple local, county, state, and federal agencies in the response efforts. In a trend to further challenge all response organizations, this latest exercise tested the Site's Emergency Response Organization (ERO) to manage a complex event with potential off-site consequences. There were issues identified in the exercise that SRS has addressed and continues to address to improve the program, including identifying logistical challenges in the movement of people from impacted areas and then conducting appropriately scoped drills to validate the effectiveness.

DOE-SR, as the landlord at SRS, has overall responsibility of the Emergency Management Program for the site. As a continuous improvement item, DOE-SR, in conjunction with DOE/NNSA, will perform an evaluation of the items listed in the Sub-recommendation 3. This evaluation will assess among other things the ability and preparedness of community emergency and medical resources. Results of this evaluation will be shared with the Board. Additionally, DOE-SR will reassess the program if Tritium source documents were to substantially change in the future.

DOE/NNSA actions and plans that would have responded to this recommendation are complete, underway, or planned and therefore are considered to have met the objectives of this Sub-recommendation. DOE/NNSA is willing to brief the DNFSB on these actions and keep the Board updated on a reoccurring basis.

In summary, DOE/NNSA has already initiated, and in some cases completed, the actions the DNFSB recommends and SRS tritium operations are providing adequate protection of public safety. Many significant long-term projects to enhance safety in SRS tritium operations are nearing completion. Notably, the ongoing major construction project to replace the HOAM Tritium Facilities with new, modern, and robust facilities is underway and is being supported by the Department and Congress.

These activities are significant and are the proper implementation of DOE/NNSA safety improvements at SRS. Therefore, DOE/NNSA concludes that the most efficient, effective, and quickest way to improve safety at the SRS Tritium Facilities is to continue with the current approach and path forward. As previously noted, DOE/NNSA actions and plans that would have responded to this recommendation are complete or underway and therefore are considered to have met the issues highlighted and meet the intent of the recommendation.

[FR Doc. 2019-21438 Filed 10-1-19; 8:45 am]

BILLING CODE 6450-01-P